DEPARTMENT OF ENERGY

Federal Energy Regulatory Commission

[Docket No. ER01-3142-003]

Midwest Independent Transmission System Operator, Inc.; Notice of Filing

December 6, 2001.

Take notice that on November 30, 2001, the Midwest Independent Transmission System Operator, Inc. (the Midwest ISO) tendered for filing with the Federal Energy Regulatory Commission (Commission) substituted pages to its Open Access Transmission Tariff (OATT), FERC Electric Tariff, Original Volume No. 1, which reflect that Schedule 4 (Energy Imbalance Service and Inadvertent Interchange Service) has been suspended indefinitely until a further refined and enhanced Schedule 4 can be developed in concert with the Midwest ISO and its stakeholders. The Midwest ISO submits that the suspension of its Schedule 4 effective date will result in customers, which are currently Schedule 4 customers of the Midwest ISO Transmission Owners, continuing to take Schedule 4 service under the Midwest ISO Transmission Owners' OATTs. The Midwest ISO shall re-submit at a later date a revised Schedule 4 (Energy Imbalance Service and Inadvertent Interchange Service).

The Midwest ISO also seeks waiver of the Commission's regulations, 18 CFR 385.2010, with respect to service on all parties on the official service list in this proceeding. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “FERC Filings” for other interested parties in this matter. The Midwest ISO will provide hard copies to any interested parties upon request.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before December 17, 2001. Protests will be considered by the Commission to determine the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-30706 Filed 12-11-01; 8:45 am]

BILLING CODE 6717-01-P